DEPARTMENT OF HOMELAND SECURITY

Transportation Security Administration

Intent To Request Approval From OMB of One New Public Collection of Information: Certification of Identity Form (TSA Form 415)

AGENCY: Transportation Security Administration, DHS.

ACTION: 60-Day notice.

SUMMARY: The Transportation Security Administration (TSA) invites public comment on a new Information Collection Request (ICR) abstracted below that we will submit to the Office of Management and Budget (OMB) for approval in compliance with the Paperwork Reduction Act (PRA). The ICR describes the nature of the information collection and its expected burden on an individual traveler providing his or her name; address; and information that would help TSA verify the identity of the passenger.

DATES: Send your comments by May 19, 2020.

ADDRESSES: Comments may be emailed to TSAPRA@tsa.dhs.gov or delivered to the TSA PRA Officer, Information Technology (IT), TSA-11, Transportation Security Administration, 601 South 12th Street, Arlington, VA 20598-6011.

FOR FURTHER INFORMATION: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Purpose and Description of Data Collection

The REAL ID Act and implementing regulation set minimum requirements for state-issued driver's licenses and identification cards (DL/ID) accepted by Federal agencies for official purposes, including boarding federally regulated commercial aircraft.¹ Pursuant to the regulation, beginning October 1, 2020, TSA may only accept state-issued DL/ID if the card itself is REAL ID-compliant.² In advance of TSA's full implementation of these REAL ID requirements, the agency is reviewing all screening and identity verification processes. As part of this review, TSA is updating the information that the Agency may collect from individuals seeking to use the IVCC process.

¹ Public Law 109-13, Div. B, 119 Stat. 231, 302-23 (May 11, 2005); REAL ID Driver's Licenses and Identification Cards, 6 CFR part 37.

² 6 CFR 37.5(b).

All adult passengers 18 and over must show valid identification at the airport checkpoint in order to travel. TSA has identified acceptable forms of identification to meet this requirement. Generally, individuals verify their identity by providing an acceptable form of ID (such as a driver's license or passport) at the travel document checker.³ In the event that an individual does not have their acceptable form of identification with them at the airport, TSA may still allow that individual to fly if they are able to verify their identity through alternative procedures, such as through TSA's Identity Verification Call Center (IVCC) process.⁴

³ The agency provides a list of acceptable forms of identification on the agency website, available at https://www.tsa.gov/travel/security-screening/identification.

⁴ Id.

The IVCC uses knowledge-based authentication, via commercial and government database sources with personal identifiable information provided by the passenger in order to derive questions that the IVCC uses to ask the passenger to verify his or her identity. The commercial databases used by the IVCC are aggregators of an individual's transactional data, providing essential information of which only an individual would have knowledge. The IVCC then speaks with the traveler to verify the individual's identity based on information found in the databases. If the traveler's identity is confirmed, he or she will be allowed to enter the screening checkpoint. Travelers using the alternative process for identity verification may be subject to additional security screening.

To initiate the IVCC process, a traveler who does not have their acceptable identification with him or her must complete a Certification of Identity form (TSA Form 415).⁵ The current TSA Form 415 requests the traveler's name and address. After completing the form, the traveler is connected with TSA's IVCC.

⁵ TSA Form 415 is currently exempt from the Paperwork Reduction Act.

Acceptable identification requirements will change on October 1, 2020, when all state-issued identification must meet REAL ID requirements. To ensure that the alternative identity verification process does not become a means for travelers to circumvent REAL ID requirements, TSA is revising Form 415 to ask additional questions concerning what type of physical identification the individual has. This expansion of the type of information collected requires TSA to seek approval for the collection.

The most likely respondents to this proposed information request are travelers who arrive at an airport security checkpoint without an acceptable form of identification because they lost or forgot their DL or other state-issued ID. Other likely respondents are travelers who had their acceptable form of identification stolen and travelers carrying a form of identification that they incorrectly believed to be acceptable. TSA estimates that approximately 912,500 passengers will complete the TSA Form 415 annually. TSA estimates each form will take approximately three minutes to complete. This collection would result in an annual reporting burden of 45,625 hours.

Use of Results

TSA will use the information provided on revised TSA Form 415 to generate questions intended to verify the identity of a traveler who arrives at a security screening checkpoint without an acceptable form of identification. This information may also be used to determine who may access the IVCC. A failure to collect this information may result in TSA not being able to verify the identity of travelers without an acceptable form of identification and these travelers being unable to proceed through the security checkpoint and board a commercial aircraft.

TSA previously initiated the PRA approval process by publishing a notice on November 8, 2016, 81 FR 78623, announcing our intent to conduct this collection; however due to continuing policy refinement, TSA never completed the process or finalized the TSA Form 415. TSA welcomes new comments with the publication of this new notice to re-initiate the approval process.

Dated: March 16, 2020.
Christina A. Walsh,
TSA Paperwork Reduction Act Officer, Information Technology.

[FR Doc. 2020-06011 Filed 3-19-20; 8:45 am]

BILLING CODE 9110-05-P